DEPARTMENT OF THE INTERIOR

Fish and Wildlife Service

[Docket No. FWS-R4-ES-2025-0043; FXES11140400000-256-FF04EA4000]

Receipt of Incidental Take Permit Applications and Proposed Habitat Conservation Plans for the Alabama Beach Mouse; Baldwin County, AL; Categorical Exclusion

AGENCY: Fish and Wildlife Service, Interior.

ACTION: Notice of availability; request for comments.

SUMMARY: We, the Fish and Wildlife Service (Service), announce receipt of four separate applications from each of the following applicants for an incidental take permit (ITP) under the Endangered Species Act (ESA): Lindsey and Associates, LLC; Seahaven Farms, LLC; Emmer Holdings, LLC; and Greg Smith (applicant/applicants). Each applicant requests an ITP to take the federally listed Alabama beach mouse incidental to the construction of single-family homes in Baldwin County, Alabama. We request public comment on the applications, which include each applicants' proposed habitat conservation plans (HCPs) and on the Service's preliminary determination that the proposed permitting actions may be eligible for a categorical exclusion pursuant to the National Environmental Policy Act (NEPA), the Department of Interior's (DOI) NEPA regulations, and the DOI Departmental Manual (DM). To make these preliminary determinations, we prepared a draft screening form and NEPA statement for each application, which are available for public review. We invite comment from the public and local, State, Tribal, and Federal agencies.

DATES: We must receive your written comments on or before October 2, 2025.

ADDRESSES:

Obtaining Documents: The documents this notice announces, as well as any comments and other materials that we receive, will be available for public inspection online in Docket No. FWS-R4-ES-2025-0043 at https://www.regulations.gov.

Submitting Comments: If you wish to submit comments on any document, you may do so in writing by one of the following methods:

• Online: https://www.regulations.gov. Follow the instructions for submitting comments on Docket No. FWS-R4-ES-2025-0043.

• U.S. Mail: Public Comments Processing, Attn: Docket No. FWS-R4-ES-2025-0043; U.S. Fish and Wildlife Service, MS: PRB/3W, 5275 Leesburg Pike, Falls Church, VA 22041-3803.

FOR FURTHER INFORMATION CONTACT: William Lynn, by U.S. mail (see ADDRESSES), by telephone at 251-538-2065, or via email at william_lynn@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of an application from each of the following applicants for an ITP under the Endangered Species Act, as amended (ESA; 16 U.S.C. 1531 et seq.): Emmer Holdings, LLC; Lindsey and Associates, LLC; Seahaven Farms, LLC; and Greg Smith (applicant/applicants). Each applicant requests an ITP to take the federally listed endangered Alabama beach mouse (ABM; Peromyscus polionotus ammobates) incidental to the construction, maintenance, and operation of single-family homes in Baldwin County, Alabama. We request public comment on each of the applications, which include each applicant's HCP, and on the Service's preliminary determinations that the proposed ITPs may qualify for a categorical exclusion pursuant to NEPA, DOI's NEPA regulations and the DOI DM (516 DM 8.5(C)(2)). To make these preliminary determinations, we prepared a draft screening form and NEPA statement for each HCP, both of which are available for public review.

Proposed Projects

Emmer Holdings, LLC requests a 50-year ITP to take ABM via the conversion of 0.104 acres (ac) of occupied nesting, foraging, and sheltering habitat incidental to the construction of a single-family home on a 1.27-ac parcel located at 23726 Perdido Beach Boulevard, Orange Beach, Alabama. The applicant proposes to mitigate for the take of ABM through an in-lieu fee of $10,402.90 to the City of Orange Beach's Dune Enhancement Fund.

Seahaven Farms, LLC requests a 50-year ITP to take ABM via the conversion of approximately 0.101-ac incidental to construction of a single-family home on a 1.17-ac lot. The parcel is located 23666 Perdido Beach Boulevard in Orange Beach, Alabama. The applicant proposes to mitigate for the take of ABM through an in-lieu fee of $10,382.20 to the City of Orange Beach's Dune Enhancement Fund.

Lindsey and Associates, LLC requests a 50-year ITP to take ABM through the conversion of approximately 0.144 ac in the construction of a single-family home on a 1.36-ac lot. The parcel is located 23666 Perdido Beach Boulevard in Orange Beach, Alabama. The applicant proposes to mitigate for the take of ABM through an in-lieu fee of $14,416.40 to the City of Orange Beach's Dune Enhancement Fund.

Greg Smith requests a 50-year ITP to take ABM via the conversion of approximately 0.57 ac of occupied nesting, foraging, and sheltering habitat incidental to the construction of two single family homes on a 1.21-ac parcel located at 309 East Beach Boulevard, Gulf Shores, Alabama. The applicant proposes to mitigate for take through offsite management of 1.24 ac of ABM habitat owned by the City of Gulf Shores. Management will be funded by a contribution to the City of Gulf Shores Dune Enhancement Fund at a rate of $350 per unit ($700 annually) for the life of the permit, totaling $35,000.

Our Preliminary Determination

The Service has made a preliminary determination that reasonably foreseeable effects of each applicant's proposed project, including the construction of the residential development and associated infrastructure, would have a minor effect on Alabama beach mice and the human environment, and no extraordinary circumstances in 43 CFR 46.215 apply. Reasonably foreseeable effects encompass effects of implementation of the action including effects of the action in addition to other past, present, and reasonably foreseeable future effects. Therefore, we have preliminarily determined that the proposed ESA section 10(a)(1)(B) permits would be a low-effect ITP that may qualify for application of a categorical exclusion (516 DM 8.5 (C)(2)), pursuant to NEPA (42 U.S.C. 4321 et seq.), the DOI's NEPA regulations (43 CFR part 46), and the DOI DM. A low-effect ITP is one that would result in (1) negligible or minor effects on species covered in the HCP; (2) no significant effects on the human environment; and (3) reasonably foreseeable effects that would not result in significant cumulative effects to the human environment.

Next Steps

The Service will evaluate each application and the applicable comments to determine whether to issue the requested ITP. We will also conduct an intra-Service consultation pursuant to section 7 of the ESA to evaluate the effects of the proposed take. After considering the preceding and other matters, we will determine whether the permit issuance criteria of section 10(a)(1)(B) of the ESA have been met as to each application. If met, the Service will issue ITP number PER 18797693 to Emmer Holdings, LLC.; ITP number PER 18809553 to Lindsey and Associates, LLC.; ITP number PER 18810361 to Seahaven Farms, LLC; and ITP number PER 17904462 to Greg Smith.

Public Availability of Comments

Before including your address, phone number, email address, or other personal identifying information in your comment, be aware that your entire comment, including your personal identifying information, may be made available to the public. If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

Authority

The Service provides this notice under section 10(c) of the Endangered Species Act (16 U.S.C. 1531 et seq.) and its implementing regulations (50 CFR 17.32), NEPA (42 U.S.C. 4321 et seq.), as amended, and the DOI's implementing regulations (43 CFR part 46).

William J. Pearson,
Field Supervisor, Alabama Ecological Service Field Office.

[FR Doc. 2025-16770 Filed 8-29-25; 8:45 am]

BILLING CODE 4333-15-P